DEPARTMENT OF THE INTERIOR

Bureau of Indian Affairs

[145A2100DD-AADD001000.A0E501010.999900]

American Indian Education Study Group

AGENCY: Bureau of Indian Affairs, Interior.

ACTION: Additional tribal consultation meeting.

SUMMARY: The Bureau of Indian Education (BIE) published a notice in the Federal Register on March 25, 2015 (80 FR 15807), announcing that the American Indian Education Study Group (Study Group) will conduct four consultation meetings with Indian tribes to obtain oral and written comments. This notice announces an additional consultation meeting scheduled for May 1, 2015, making a total of five tribal consultations meetings.

DATES: The BIE will host an additional consultation meeting on Friday, May 1, 2015. We will consider all comments received by May 15, 2015, 5:00 p.m., Eastern Standard Time.

ADDRESSES: Submit comments by mail or hand-deliver written comments to Ms. Jacquelyn Cheek, Special Assistant to the Director, Bureau of Indian Education, 1849 C Street NW., Mailstop 4657-MIB, Washington, DC 20240; facsimile: (202) 208-3312; or email to: IAEDTC-CMTS@bia.gov.

FOR FURTHER INFORMATION CONTACT: Ms. Jacquelyn Cheek, Special Assistant to the Director, Bureau of Indian Education, telephone: (202) 208-6983.

SUPPLEMENTARY INFORMATION: The additional tribal consultation meeting on the BIE Restructuring will be held on the following date and location:

Date | Time | Location
Friday, May 1, 2015 | 8:00 a.m.-5:00 p.m. (Central Standard Time) | Renaissance Oklahoma City, Convention Center Hotel, 10 North Broadway Avenue, Oklahoma City, OK 73102.

Information for this set of consultations is available on the BIE Web site at http://www.bie.edu/Consultations.

As required by 25 U.S.C. 2011(b), the purpose of consultation is to provide Indian tribes, school boards, parents, Indian organizations, and other interested parties with an opportunity to comment on the implementation plan developed following the submittal of the American Indian Study Group's Blueprint for Reform and Secretarial Order 3334. The consultation will cover issues raised during previous consultation meetings and those issues currently being considered by BIE on Indian education programs.

Dated: April 13, 2015.
Kevin K. Washburn,
Assistant Secretary—Indian Affairs.

[FR Doc. 2015-08851 Filed 4-16-15; 8:45 am]

BILLING CODE 4337-15-P